Title 3—

The President

Proclamation 8237 of April 11, 2008

National Crime Victims' Rights Week, 2008

By the President of the United States of America

A Proclamation

During National Crime Victims' Rights Week we highlight our dedication to protecting and strengthening the rights of crime victims and their families.

My Administration is committed to providing services and resources for victims of crime so that they can find justice, hope, and healing in their lives. To assist victims of domestic violence and their children, my Family Justice Center Initiative established comprehensive support centers in communities across the country. Through the Justice for All Act of 2004, we expanded DNA testing and enhanced the scope and enforceability of crime victims' rights. In 2006, I signed into law the Adam Walsh Child Protection and Safety Act to expand the National Sex Offender Registry, increase Federal penalties for crimes against children, and protect our children while on the Internet. I also support a Crime Victims' Rights Amendment to the Constitution. Through these and other efforts, we can better protect our citizens and our communities.

During National Crime Victims' Rights Week, we recognize the advocates, counselors, and others who assist victims in their time of need, and the law enforcement personnel who work to bring offenders to justice. To learn more about victims' rights, Americans can visit www.crimevictims.gov. By working together, we can help protect crime victims and build a society that respects the life and value of every person.

NOW, THEREFORE, I, GEORGE W. BUSH, President of the United States of America, by virtue of the authority vested in me by the Constitution and laws of the United States, do hereby proclaim April 13 through April 19, 2008, as National Crime Victims' Rights Week. I encourage all Americans to promote awareness of victims' rights and advance this important cause.

IN WITNESS WHEREOF, I have hereunto set my hand this eleventh day of April, in the year of our Lord two thousand eight, and of the Independence of the United States of America the two hundred and thirty-second.

[FR Doc. 08-1137

Filed 4-14-08; 8:52 am]

Billing code 3195-01-P